SMALL BUSINESS ADMINISTRATION

[Declaration of Economic Injury Disaster #9H05]

State of Washington

King County and the contiguous counties of Chelan, Kittitas, Pierce, Snohomish, and Yakima in the State of Washington constitute an economic injury disaster area as a result of the civil disturbance in the City of Seattle during the World Trade Organization Conference from November 29 to December 4, 1999. Eligible small businesses and small agricultural cooperatives without credit available elsewhere may file applications for economic injury assistance for this disaster until the close of business on January 8, 2001 at the address listed below or other locally announced locations: U.S. Small Business Administration, Disaster Area 4 Office, P.O. Box 13795, Sacramento, CA 95853-4795.

The interest rate for eligible small businesses and small agricultural cooperatives is 4 percent.

(Catalog of Federal Domestic Assistance Program No. 59002.)
Dated: April 7, 2000.
Aida Alvarez,
Administrator.

[FR Doc. 00-9329 Filed 4-13-00; 8:45 am]

BILLING CODE 8025-01-U